DEPARTMENT OF HOMELAND SECURITY

U.S. Customs and Border Protection

DEPARTMENT OF THE TREASURY

19 CFR Part 190

[USCBP-2018-0029]

RIN 1515-AE23

Modernized Drawback; Correction

AGENCY: U.S. Customs and Border Protection, Department of Homeland Security; Department of the Treasury.

ACTION: Notice of proposed rulemaking; correction.

SUMMARY: This document corrects a proposed regulation in a notice of proposed rulemaking published in the Federal Register of August 2, 2018, regarding Modernized Drawback. Specifically, CBP inadvertently proposed in 19 CFR 190.32(d)(2) an exemption for drawback claims for wine which included an imprecise reference to the entirety of paragraph (b). The reference should have been only to paragraphs (b)(1) and (b)(2), the specific paragraphs regarding the “lesser of” rule. As is evident from the entirety of the proposed rule, paragraph (b)(3), which implements the statutory prohibition on double drawback, applies to all drawback claims for wine. This technical correction remedies a clerical error that occurred when the language of paragraph (b)(3) was moved from a different part of the proposed regulations.

DATES: August 20, 2018.

FOR FURTHER INFORMATION CONTACT: Randy Mitchell, U.S. Customs and Border Protection, Office of Trade, Trade Policy and Programs, 202-863-6532, randy.mitchell@cbp.dhs.gov.

SUPPLEMENTARY INFORMATION: In proposed rule FR Doc. 2018-16279 appearing on page 37886 in the Federal Register issue of August 2, 2018, the following corrections are made:

1. On page 37936 in the first column, correct § 190.32 by revising paragraph (d)(2) to read as follows: § 190.32 Substitution unused merchandise drawback.

* * * * *

(d) * * *

(2) Allowable refund. For any drawback claim for wine (as defined in § 190.2) based on subsection (j)(2), the total amount of drawback allowable will be equal to 99 percent of the duties, taxes, and fees paid with respect to the imported merchandise, without regard to the limitations in paragraph (b)(1) or (b)(2).

Dated: August 14, 2018.
Robert E. Perez,
Acting Deputy Commissioner, U.S. Customs and Border Protection.
Approved:
Timothy E. Skud,
Deputy Assistant Secretary of the Treasury.

[FR Doc. 2018-17847 Filed 8-17-18; 8:45 am]

BILLING CODE 9111-14-P